DEPARTMENT OF TRANSPORTATION

Federal Aviation Administration

14 CFR Part 71

[Docket No. FAA-2009-0885; Airspace Docket No. 09-ASO-17]

Revision of Area Navigation (RNAV) Route Q-108; Florida

AGENCY: Federal Aviation Administration (FAA), DOT.

ACTION: Final rule.

SUMMARY: This action revises the alignment of high altitude RNAV route Q-108, which currently extends between the GADAY and CLAWZ waypoints (WP) in Florida. The FAA is taking this action to enhance the efficiency of the National Airspace System in the northern Florida area.

DATES: Effective 0901 UTC, February 11, 2010. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On Friday, October 23, 2009, the FAA published in the Federal Register a notice of proposed rulemaking to revise area navigation route Q-108 (74 FR 54766). Interested parties were invited to participate in this rulemaking effort by submitting written comments on the proposal. No comments were received.

The Rule

The FAA is amending Title 14, Code of Federal Regulations (14 CFR) part 71 by revising the description of high altitude RNAV route Q-108. The route currently extends between the GADAY and CLAWZ waypoints. This action realigns the route to terminate at the HKUNA WP, instead of CLAWZ, where it will join the PIGLT TWO standard terminal arrival (STAR) serving the Orlando International Airport, FL. In addition, two new WPs, IZZEY and FRNKS, are added to Q-108 between GADAY and HKUNA. This change shifts the alignment of Q-108 slightly to the south of its current track. This revision enhances the efficiency of the route structure in the northern Florida area.

High altitude RNAV routes are published in paragraph 2006 of FAA Order 7400.9T dated August 27, 2009, and effective September 15, 2009, which is incorporated by reference in 14 CFR 71.1. The RNAV route listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends a portion of the en route structure to enhance the safe and efficient use of the NAS in northern Florida .

Environmental Review

The FAA has determined that this action qualifies for categorical exclusion under the National Environmental Policy Act in accordance with FAA Order 1050.1E, “Environmental Impacts: Policies and Procedures,” paragraph 311a and 311b. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, dated August 27, 2009, and effective September 15, 2009, is amended as follows:

Paragraph 2006 United States Area Navigation Routes.

* * * * *

Q-108 GADAY to HKUNA [Revised]

GADAY Lat. 31°02′28″ N., Long. 86°08′02″ W.

IZZEY Lat. 30°56′59″ N., Long. 85°30′14″ W.

FRNKS Lat. 30°41′58″ N., Long. 83°46′33″ W.

HKUNA Lat. 30°36′02″ N., Long. 83°05′36″ W.

* * * * *

Issued in Washington, DC, on December 4, 2009.
Kelly J. Neubecker,
Acting Manager, Airspace and Rules Group.

[FR Doc. E9-29387 Filed 12-10-09; 8:45 am]

BILLING CODE 4910-13-P